DEPARTMENT OF TRANSPORTATION

Maritime Administration

[Docket Number: MARAD-2000-7328]

Requested Administrative Waiver of the Coastwise Trade Laws

AGENCY: Maritime Administration, Department of Transportation.

ACTION: Invitation for public comments on a requested administrative waiver of the Coastwise Trade Laws for the vessel TA MANA.

SUMMARY: As authorized by Public Law 105-383, the Secretary of Transportation, as represented by the Maritime Administration (MARAD), is authorized to grant waivers of the U.S. build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before June 5, 2000.

ADDRESSES: Comments should refer to docket number MARAD-2000-7328. Written comments may be submitted by hand or by mail to the Docket Clerk, U.S. DOT Dockets, Room PL-401, Department of Transportation, 400 7th St., S.W., Washington, D.C. 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Michael Hokana, U.S. Department of Transportation, Maritime Administration, MAR 832 Room 7201, 400 Seventh Street, SW, Washington, DC 20590. Telephone 202-366-0760.

SUPPLEMENTARY INFORMATION: Title V of Public Law 105-383 provides authority to the Secretary of Transportation to administratively waive the U.S.-build requirements of the Jones Act, and other statutes, for small commercial passenger vessels (less than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commentor's interest in the waiver application, and address the waiver criteria given in § 388.4 of MARAD'S regulations at 46 CFR part 388.

Vessel Proposed for Waiver of the U.S.-build Requirement

(1) Name of vessel and owner for which waiver is requested: Name of vessel: TA MANA Owner: Helmut “Bernard” Quante.

(2) Size, capacity and tonnage of vessel: According to the Applicant “The vessel measures 36′ (LOA) and weighs 8.25 tons (weight according to ship builder's plaque inside of vessel—7,340 Kg).”

(3) Intended use for vessel, including geographic region of intended operation and trade. According to the applicant: “The intended use for the vessel would be carrying up to six passengers for touring the San Francisco Bay and the Gulf of the Farrallones. The boat is of a very seakindly design, some sister ships sailed around Cape Horn.”

(4) Date and place of construction and (if applicable) rebuilding. Date of construction: 1981, place of construction: Fecamp, Normandy, France.

(5) A statement on the impact this waiver will have on other commercial passenger vessel operators. According to the applicant: “The home port and intended area of operation is San Francisco, the most visited city in the whole United States, perhaps the world. There are a number of large operators that tour the Bay with ferry-size vessels and some larger sailing vessels that can take up to 49 passengers. They all seem to do brisk business. I am planning to target French and German speaking tourist, offering a hands-on sailing experience where the guests participate in handling the boat. I believe that the presence of my operation will have a minute impact on the overall picture.”

(6) A statement on the impact this waiver will have on U.S. shipyards. According to the applicant: “My boat is constructed of aluminum. Very few shipyards do build equivalent boats, if any. However I have been given local shipyards a fair amount of business from regular haul outs for maintenance and bottom painting to welding and paint jobs, installation of a new engine, etc. Ship chandlers and sail makers profited from outfitting my boat with brand new electronics, a galley and new sails. The interior became a near rebuilt. I sailed the vessel to the Hawaiian Islands four times under the Ocean Racers Rules. Consequently, the safety equipment on board exceeds U.S. Coast Guard requirement.”

Dated: May 2, 2000.
By Order of the Maritime Administrator.
Joel C. Richard,
Secretary, Maritime Administration.

[FR Doc. 00-11316 Filed 5-4-00; 8:45 am]

BILLING CODE 4910-81-P